DEPARTMENT OF ENERGY

Federal Energy Regulatory Commission

[Project No. 2219-013]

Garkane Energy Cooperative, Inc.; Notice of Technical Conference

March 17, 2005.

The Commission hereby gives notice that members of its staff will meet with Garkane Energy Cooperative, Inc. (Garkane) and other stakeholders on Tuesday, April 5, 2005, from 10 a.m. to 5 p.m. (MST) in the Council Chambers of the Richfield City Office in Richfield, Utah. The Richfield City Office is located at 75 East Center Street, Richfield, Utah.

The purpose of the conference is to discuss possible protection, mitigation, and enhancement measures to be included in Garkane's application for a new license for the Boulder Creek Hydroelectric Project, due to be filed by April 30, 2005. The Boulder Creek Hydroelectric Project is located on Boulder Creek in Garfield County, Utah.

This conference is open to the public. All local, state, and Federal agencies, Indian tribes, and other interested parties are invited to participate. There will be no transcript of the conference.

Please contact Dianne Rodman at Dianne.rodman@ferc.gov or (202) 502-6077 with any questions or for additional information.

Magalie R. Salas,
Secretary.

[FR Doc. E5-1263 Filed 3-22-05; 8:45 am]

BILLING CODE 6717-01-P